DEPARTMENT OF ENERGY

Federal Energy Regulatory Commission

Combined Notice of Filings #1

Take notice that the Commission received the following electric rate filings:

Docket Numbers: ER16-1255-008; ER15-1579-012; ER15-1582-013; ER15-1914-014; ER15-2679-010; ER15-2680-010; ER15-760-013; ER15-762-014; ER16-1609-004; ER16-1738-008; ER16-1901-008; ER16-1955-008; ER16-1956-008; ER16-1973-008; ER16-2201-007; ER16-2224-007; ER16-2541-007; ER16-2578-008; ER16-468-008; ER16-474-009; ER16-890-009; ER17-1864-006; ER17-1871-006; ER17-1909-006; ER17-306-007; ER17-544-007; ER18-2492-002.

Applicants: Antelope Big Sky Ranch LLC, Antelope DSR 1, LLC, Antelope DSR 2, LLC, Bayshore Solar A, LLC, Bayshore Solar B, LLC, Bayshore Solar C, LLC, Beacon Solar 1, LLC, Beacon Solar 3, LLC, Beacon Solar 4, LLC, Central Antelope Dry Ranch C LLC, Elevation Solar C LLC, FTS Master Tenant 1, LLC, FTS Master Tenant 2, LLC, ID Solar 1, LLC, Latigo Wind Park, LLC, North Lancaster Ranch LLC, Pioneer Wind Park I, LLC, Sandstone Solar LLC, Sierra Solar Greenworks LLC, Solverde 1, LLC, Summer Solar LLC, Western Antelope Blue Sky Ranch A LLC, Western Antelope Blue Sky Ranch B LLC, Western Antelope Dry Ranch LLC, 65HK 8me LLC, 67RK 8me LLC, 87RL 8me LLC.

Description: Notice of Non-Material Change in Status of AES MBR Affiliates.

Filed Date: 5/17/19.

Accession Number: 20190517-5221.

Comments Due: 5 p.m. ET 6/7/19.

Docket Numbers: ER16-1255-009; ER15-1579-013; ER15-1582-014; ER15-1914-015; ER15-2679-011; ER15-2680-011; ER15-760-014; ER15-762-015; ER16-1609-005; ER16-1738-009; ER16-1901-009; ER16-1955-009; ER16-1956-009; ER16-1973-009; ER16-2201-008; ER16-2224-008; ER16-2541-008; ER16-2578-009; ER16-468-009; ER16-474-010; ER16-890-010; ER17-1864-007; ER17-1871-007; ER17-1909-007; ER17-306-008; ER17-544-008; ER18-1667-002; ER18-2327-001; ER18-2492-003; ER19-846-002; ER19-847-002.

Applicants: Antelope Big Sky Ranch LLC, Antelope DSR 1, LLC, Antelope DSR 2, LLC, Antelope DSR 3, LLC, Antelope Expansion 2, LLC, Bayshore Solar A, LLC, Bayshore Solar B, LLC, Bayshore Solar C, LLC, Beacon Solar 1, LLC, Beacon Solar 3, LLC, Beacon Solar 4, LLC, Central Antelope Dry Ranch C LLC, Elevation Solar C LLC, FTS Master Tenant 1, LLC, FTS Master Tenant 2, LLC, ID Solar 1, LLC, Latigo Wind Park, LLC, North Lancaster Ranch LLC, Riverhead Solar Farm, LLC, San Pablo Raceway, LLC, Sandstone Solar LLC, Solverde 1, LLC, Summer Solar LLC, Sierra Solar Greenworks, LLC, Pioneer Wind Park I, LLC, Western Antelope Blue Sky Ranch A LLC, Western Antelope Blue Sky Ranch B LLC, Western Antelope Dry Ranch LLC, 65HK 8me LLC, 67RK 8me LLC, 87RL 8me LLC.

Description: Notice of Non-Material Change in Status of Antelope Big Sky Ranch LLC, et al.

Filed Date: 5/17/19.

Accession Number: 20190517-5228.

Comments Due: 5 p.m. ET 6/7/19.

Docket Numbers: ER19-1904-000.

Applicants: Nevada Power Company.

Description: Compliance filing: OATT Revision to Tarifffs 05.20.19 to be effective 5/22/2019.

Filed Date: 5/20/19.

Accession Number: 20190520-5111.

Comments Due: 5 p.m. ET 6/10/19.

Docket Numbers: ER19-1905-000.

Applicants: PJM Interconnection, L.L.C., Duke Energy Progress, LLC.

Description: § 205(d) Rate Filing: Revisions to the Duke Energy Progress/PJM Joint Operating Agreement to be effective 7/22/2019.

Filed Date: 5/20/19.

Accession Number: 20190520-5112.

Comments Due: 5 p.m. ET 6/10/19.

Docket Numbers: ER19-1906-000.

Applicants: PJM Interconnection, L.L.C.

Description: Tariff Cancellation: Notice of Cancellation of WMPA SA No. 4693; Queue No. AA2-130 to be effective 6/15/2019.

Filed Date: 5/20/19.

Accession Number: 20190520-5129.

Comments Due: 5 p.m. ET 6/10/19.

Docket Numbers: ER19-1907-000.

Applicants: Southwest Power Pool, Inc.

Description: § 205(d) Rate Filing: 2824R6 KMEA & Sunflower Meter Agent Agreement to be effective 5/1/2019.

Filed Date: 5/21/19.

Accession Number: 20190521-5021.

Comments Due: 5 p.m. ET 6/11/19.

Docket Numbers: ER19-1908-000.

Applicants: Southwest Power Pool, Inc.

Description: § 205(d) Rate Filing: 3552 TEA and MEAN Meter Agent Agreement to be effective 5/1/2019.

Filed Date: 5/21/19.

Accession Number: 20190521-5022.

Comments Due: 5 p.m. ET 6/11/19.

Docket Numbers: ER19-1909-000.

Applicants: Public Service Company of Colorado.

Description: § 205(d) Rate Filing: PSCo-TSGT-UPA-Slvr Sdl SS COM Agrmt 478—0.0.0 to be effective 5/22/2019.

Filed Date: 5/21/19.

Accession Number: 20190521-5025.

Comments Due: 5 p.m. ET 6/11/19.

Docket Numbers: ER19-1911-000.

Applicants: The United Illuminating Company.

Description: § 205(d) Rate Filing: Localized Costs Sharing Agreement No. 19 to be effective 4/1/2019.

Filed Date: 5/21/19.

Accession Number: 20190521-5066.

Comments Due: 5 p.m. ET 6/11/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 21, 2019.
Nathaniel J. Davis, Sr.,
Deputy Secretary.

[FR Doc. 2019-11156 Filed 5-24-19; 8:45 am]

BILLING CODE 6717-01-P